DEPARTMENT OF COMMERCE

National Telecommunications and Information Administration

Notice: Call for Nominations, Online Safety and Technology Working Group

AGENCY: National Telecommunications and Information Administration

ACTION: Notice and Request for Nominations of Representatives to Serve on Working Group

SUMMARY: The National Telecommunications and Information Administration (NTIA) is seeking nominations of individuals to represent the business community, public interest groups, and other appropriate groups interested in serving on the NTIA Online Safety and Technology Working Group (OSTWG) for a single fifteen (15) month term to commence in January 2009. At the conclusion of the working group's term, the OSTWG will provide a report to the Assistant Secretary for Communications and Information and NTIA Administrator and to Congress on ways to promote and to preserve a safe environment for children using the Internet.

DATES: Nominations must be postmarked or electronically transmitted on or before December 12, 2008.

ADDRESSES: An organization wishing to submit a nomination of an individual to represent that organization's interests relevant to the work of the OSTWG should send the individual's resume or curriculum vita and a biographical statement summarizing the individual's interest in serving on the working group and relevant qualifications to the attention of Tim Sloan by mail to Office of the Assistant Secretary, National Telecommunications and Information Administration, 1401 Constitution Avenue N.W., Room 4725, Washington, DC 20230; by facsimile transmission to (202) 482-6173; or by electronic mail to ostwg@ntia.doc.gov. Individuals may also self-nominate by submitting the same information listed above, as well as an indication of support from the organization or group that the individual will represent.

FOR FURTHER INFORMATION CONTACT: Eric Stark at (202) 482-1880 or estark@ntia.doc.gov; or Tim Sloan at (202) 482-1899 or tsloan@ntia.doc.gov.

SUPPLEMENTARY INFORMATION: On October 10, 2008, the President signed into law the “Broadband Data Improvement Act” (the Act), Pub. L. No. 110-385. Section 214 of that Act directs NTIA to establish the OSTWG to review and evaluate:

• The status of industry efforts to promote online safety through educational efforts, parental control technology, blocking and filtering software, age-appropriate labels for content or other technologies or initiatives designed to promote a safe online environment for children;

• The status of industry efforts to promote online safety among providers of electronic communications services and remote computing services by reporting apparent child pornography, including any obstacles to such reporting;

• The practices of electronic communications service providers and remote computing service providers related to record retention in connection with crimes against children; and

• The development of technologies to help parents shield their children from inappropriate material on the Internet.

The OSTWG must report its findings and recommendations to the Assistant Secretary and to Congress within one (1) year after its first meeting.

The Act specifies that the OSTWG must be comprised of “representatives of relevant sectors of the business community, public interest groups, and other appropriate groups and Federal agencies.” The “business community” includes, at a minimum, Internet service providers, Internet content providers (especially targeted towards children), producers of blocking and filtering software, operators of social networking sites, search engines, Web portals, and domain name service (DNS) providers. Public interest groups may include organizations that work on behalf of children or study children's issues, Internet safety groups, and education and academic entities. NTIA is seeking representatives from a broad spectrum of organizations to obtain the best information available on the state of online safety.

The OSTWG will have up to 30 members. Appointments will be for a single fifteen (15) month term. The Assistant Secretary seeks representatives of organizations with expertise and knowledge concerning the issues the OSTWG will study, and upon which it will report, as described in the Act, especially individuals who can represent the views of an industry sector or a larger public interest group. NTIA will also work with relevant federal agencies to identify appropriate representatives to serve on the working group.

The Act exempts the OSTWG from the Federal Advisory Committee Act. Members will not receive compensation or reimbursement for travel or for per diem expenses. A meeting schedule will be announced upon formation of the working group. All members selected must agree to attend the scheduled meetings and provide input on the working group's report. NTIA will provide administrative support for the working group.

Nominations of potential members should include the individual's resume or curriculum vita and should also include a biographical statement summarizing the individual's interest in serving on the working group and the individual's qualifications relevant to the OSTWG's work. Nominations should also include a discussion of the individual's ability to represent the views of an industry sector or public interest group. Individuals may also self-nominate by submitting the same information listed above, as well as an indication of support from the organization or group that the individual will represent.

Dated: November 17, 2008.
Kathy D. Smith,
Chief Counsel, National Telecommunications and Information Administration.

[FR Doc. E8-27675 Filed 11-20-08; 8:45 am]

BILLING CODE 3510-60-S